ENVIRONMENTAL PROTECTION AGENCY

[EPA-HQ-OW-2011-0943; FRL9716-6]

National Water Program 2012 Strategy: Response to Climate Change

AGENCY: Environmental Protection Agency (EPA).

ACTION: Notice of availability.

SUMMARY: The Environmental Protection Agency (EPA) is publishing the final “National Water Program 2012 Strategy: Response to Climate Change” (2012 Strategy). The Strategy describes a set of long-term visions and goals for the management of water resources in light of climate change and charts key strategic actions to be taken to achieve the goals in 2012 and subsequent years. The Strategy will be a roadmap to inform the National Water Program planning process. The Strategy also includes goals and strategic actions for EPA in ten geographic climate regions, largely patterned after the climate regions established by the U.S. Global Change Research Program (USGCRP). The final version of the Strategy reflects public comments. The final Strategy, is available on the Internet at: http://www.epa.gov/water/climatechange.

ADDRESSES: Public comments received on the draft strategy and the final Strategy are available at the Water Docket, located at the EPA Docket Center (EPA/DC), EPA West 1301 Constitution Avenue NW., Washington, DC 20004. These documents are also available via the EPA Dockets at http://www.regulations.gov under docket number EPA-HQ-OW-2012-0943.

FOR FURTHER INFORMATION CONTACT: Ms. Elana Goldstein, Office of Water (4101M), Environmental Protection Agency, Ariel Rios Building, Mail Code 4101M, 1200 Pennsylvania Avenue NW., Washington, DC 20460; telephone number: 202-564-1800; email address: water_climate_change@epa.gov. For more information, visit: http://www.epa.gov/water/climatechange.

SUPPLEMENTARY INFORMATION: Climate change alters the hydrological background in which EPA's water programs function. Climate change poses challenges to various aspects of water resource management, including how to: address risks to drinking water, wastewater and storm water infrastructure; protect the quality of surface water, ground water and drinking water; build resilience of watersheds, wetlands, and coastal and ocean waters; and work with tribal communities to understand the implications of climate change to their economy and culture. To remain effective and continue to fulfill its mission, the National Water Program will need to adapt to already observed and projected climatic changes. To that end, EPA will continue to collaborate with partners at the federal, state, tribal, and local levels to develop the requisite information, tools and strategies.

Dated: December 17, 2012.
Nancy K. Stoner,
Acting Assistant Administrator for Water.

[FR Doc. 2012-31089 Filed 12-21-12; 4:15 pm]

BILLING CODE 6560-50-P